ENVIRONMENTAL PROTECTION AGENCY

40 CFR Parts 60 and 63

[EPA-HQ-OAR-2011-0817; FRL-9712-5]

RIN 2060-AQ93

National Emission Standards for Hazardous Air Pollutants for the Portland Cement Manufacturing Industry and Standards of Performance for Portland Cement Plants

AGENCY: Environmental Protection Agency (EPA).

ACTION: Proposed rule; Notice of public hearing.

SUMMARY: The EPA has been requested to hold a public hearing on its proposed rule, “National Emission Standards for Hazardous Air Pollutants for the Portland Cement Manufacturing Industry and Standards of Performance for Portland Cement Plants,” which was published in the Federal Register on July 18, 2012. The EPA will hold the hearing on August 16, 2012, in Arlington, Texas.

DATES: The public hearing will be held on August 16, 2012. The Administrator will keep the record of the public hearing open for 30 days after completion of the hearing to provide an opportunity for submission or rebuttal and supplementary information. The date for submitting comments on the proposed rule is unchanged from August 17, 2012.

ADDRESSES: The hearing will be held at the Arlington Municipal Building in the City Council Chambers located at 101 W. Abram Street, Arlington, Texas 76010; Telephone: (817) 459-6122.

The public hearing will convene at 9:00 a.m. and will continue until 7:00 p.m. A lunch break is scheduled from 12:00 p.m. until 1:00 p.m. The EPA's Web site for the rulemaking, which includes the proposal and information about the hearing, can be found at: http://www.epa.gov/ttn/atw/pcem/pcempg.html.

FOR FURTHER INFORMATION CONTACT: If you would like to present oral testimony at the public hearing, please contact Ms. Pamela Garrett, U.S. Environmental Protection Agency, Office of Air Quality Planning and Standards, Sector Policies and Programs Division (D243-01), Research Triangle Park, North Carolina 27711; telephone: (919) 541-7966; fax number: (919) 541-5450; email address: garrett.pamela@epa.gov (preferred method for registering). The last day to register to present oral testimony in advance will be Tuesday, August 14, 2012. If using email, please provide the following information: The time you wish to speak (morning or afternoon), name, affiliation, address, email address and telephone and fax numbers. Time slot preferences will be given in the order requests are received. Additionally, requests to speak will be taken the day of the hearing at the hearing registration desk, although preferences on speaking times may not be able to be fulfilled. If you require the service of a translator or special accommodations such as audio description, please let us know at the time of registration.

Questions concerning the proposed rule (77 FR 42368, July 18, 2012) should be addressed to Ms. Sharon Nizich, Office of Air Quality Planning and Standards; Sector Policies and Programs Division, Minerals and Manufacturing Group (D243-04); Environmental Protection Agency; Research Triangle Park, North Carolina 27111; telephone number: (919) 541-2825; fax number: (919) 541-5450; email address: nizich.sharon@epa.gov.

SUPPLEMENTARY INFORMATION: Public hearing: The proposal for which the EPA is holding the public hearing was published in the Federal Register on July 18, 2012, and is available at: http://www.gpo.gov/fdsys/pkg/FR-2012-07-18/pdf/2012-16166.pdf and also in the docket identified below. The public hearing will provide interested parties the opportunity to present oral comments regarding the EPA's proposed standards, including data, views or arguments concerning the proposal. The EPA may ask clarifying questions during the oral presentations, but will not respond to the presentations at that time. Written statements and supporting information submitted during the comment period will be considered with the same weight as any oral comments and supporting information presented at the public hearing.

Commenters should notify Ms. Garrett if they will need specific equipment or if there are other special needs related to providing comments at the public hearing. The EPA will provide equipment for commenters to make computerized slide presentations if we receive special requests in advance. Oral testimony will be limited to 5 minutes for each commenter. The EPA encourages commenters to submit to the docket a copy of their oral testimony electronically (via email or CD) or in hard copy form.

The public hearing schedule, including a list of speakers, will be posted on the EPA's Web site at: http://www.epa.gov/ttn/atw/pcem/pcempg.html. A verbatim transcript of the hearing and written statements will be included in the docket for the rulemaking. The EPA will make every effort to follow the schedule as closely as possible on the day of the hearing; however, please plan for the hearing to run either ahead of schedule or behind schedule.

How can I get copies of this document and other related information?

The EPA has established a docket for the proposed rule, “National Emission Standards for Hazardous Air Pollutants for the Portland Cement Manufacturing Industry and Standards of Performance for Portland Cement Plants” under Docket ID No. EPA-HQ-OAR-2011-0817, available at www.regulations.gov.

List of Subjects in 40 CFR Parts 60 and 63

Environmental protection, Administrative practice and procedure, Air pollution control, Hazardous substances, Intergovernmental relations, Reporting and recordkeeping requirements.

Dated: August 1, 2012.
Mary Henigin,
Acting Director, Office of Air Quality Planning and Standards.

[FR Doc. 2012-19126 Filed 8-2-12; 8:45 am]

BILLING CODE 6560-50-P